COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes a product and services from the Procurement List previously furnished by nonprofit agencies employing persons who are blind or have other severe disabilities.

DATES: Date deleted from the Procurement List: November 18, 2018.

ADDRESSES: Committee for Purchase From People Who Are Blind or Severely Disabled, 1401 S. Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 9/14/2018 (83 FR 179), the Committee for Purchase From People Who Are Blind or Severely Disabled published notice of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and services deleted from the Procurement List.

End of Certification

Accordingly, the following product and services are deleted from the Procurement List:

Product

NSN(s)—Product Name(s): 6545-00-853-6309—First Aid Kit, Eye Dressing

Mandatory Source of Supply: Suburban Adult Services, Inc., Elma, NY

Contracting Activity: Defense Logistics Agency Troop Support

Services

Service Type: Reproduction and Courier Service

Mandatory for: Naval Facilities Engineering Command, Chesapeake Engineering Field Activity Chesapeake, 1314 Harwood Avenue SE, Washington, DC

Mandatory Source of Supply: Linden Resources, Inc., Arlington, VA

Contracting Activity: DEPT OF THE NAVY, U.S. FLEET FORCES COMMAND

Service Type: Janitorial/Custodial Service

Mandatory for: Naval & Marine Corps Reserve Center (NMCRC), 1201 N 35th Avenue, Phoenix, AZ

Mandatory Source of Supply: The Centers for Habilitation/TCH, Tempe, AZ

Contracting Activity: DEPT OF THE NAVY, NAVFAC SOUTHWEST

Service Type: Grounds Maintenance Service

Mandatory for: Naval Air Warfare Center Weapons Division: Buildings 456 (N97) and 1438 (Main Post Area), White Sands Missile, NM

Mandatory Source of Supply: Tresco, Inc., Las Cruces, NM

Contracting Activity: DEPT OF THE NAVY, U.S. FLEET FORCES COMMAND

Michael R. Jurkowski,
Business Management Specialist Business Operations.

[FR Doc. 2018-22789 Filed 10-18-18; 8:45 am]

BILLING CODE 6353-01-P